DEPARTMENT OF ENERGY

Federal Energy Regulatory Commission

[Docket No. ER01-3149-004, et al.]

Nevada Power Company, et al.; Electric Rate and Corporate Filings

January 7, 2003.

The following filings have been made with the Commission. The filings are listed in ascending order within each docket classification.

1. Nevada Power Company

[Docket No. ER01-3149-004]

Take notice that on January 2, 2003, Nevada Power Company tendered for filing its compliance filing making the changes to the Interconnection and Operation Agreement (Agreement) between Nevada Power Company and Mirant Las Vegas, LLC required by the Commission's November 22, 2002 order in this docket.

Comment Date: January 23, 2003.

2. ISO New England Inc.

[Docket No. ER02-2153-002]

Take notice that on January 3, 2003, ISO New England Inc. submitted a compliance report in this proceeding.

Copies of said filing have been served upon all parties to this proceeding and the New England utility regulatory agencies, and electronically upon the New England Power Pool participants.

Comment Date: January 24, 2003.

3. California Power Exchange Corporation

[Docket No. ER02-2234-005]

Take notice that on December 31, 2002, the California Power Exchange Corporation made a filing to comply with the Commission's December 20, 2002 order in this proceeding (101 FERC ¶61,330).

Comment Date: January 21, 2003.

4. Southern California Edison Company

[Docket No. ER02-2496-001]

Take notice that on January 6, 2003, Southern California Edison Company (SCE) submitted for filing a compliance filing regarding refunds for Scheduling and Dispatching (S&D) services SCE rendered in 2002.

The purpose of this filing is to comply with the Commission's Letter Order in Docket No. ER02-2496-000 issued October 23, 2002, accepting SCE's proposed rate for 2002 S&D services and ordering SCE to submit a refund report.

Copies of this filing were served upon Public Utilities Commission of the State of California, Arizona Public Service, M-S-R Public Power, and The Metropolitan Water District of Southern California.

Comment Date: January 27, 2003.

5. Midwest Independent Transmission System Operator, Inc.

[Docket No. ER02-2595-002]

Take notice that on December 23, 2002, the Midwest Independent Transmission System Operator, Inc. (the Midwest ISO), pursuant to the November 22, 2002 Order in Docket No. ER02-2595-000, tendered for filing an Informational Filing regarding its efforts to develop and implement the processes and systems required for the Midwest ISO to administer day-ahead and real-time energy markets in the Midwest (the Energy Markets), including development of the systems and processes necessary to facilitate the distribution and use of Financial Transmission Rights (FTRs) and implement appropriate Market Mitigation Measures.

The Midwest ISO seeks waiver of the Commission's Regulations, 18 CFR 385.2010 with respect to service on all parties on the official service list in this proceeding. The Midwest ISO states that it has notified via electronic mail all Midwest ISO Members, Member representatives of Transmission Owners and Non-Transmission Owners, the Midwest ISO Advisory Committee participants, Policy Subcommittee participants, as well as all state commissions within the region that the filing has been posted electronically on the Midwest ISO's Web site at www.midwestiso.org under the heading “Filings to FERC” for other interested parties in this matter. The Midwest ISO will provide hard copies to any interested parties upon request.

Comment Date: January 13, 2003.

6. ISO New England Inc.

[Docket No. ER03-147-001]

Take notice that on January 3, 2003, ISO New England Inc. submitted its compliance filing in response to the Commission's December 19, 2002 Order in the above-captioned docket.

Copies of said filing have been served upon all parties to this proceeding, and upon NEPOOL Participants, and upon all non-Participant entities that are customers under the NEPOOL Open Access Transmission Tariff, as well as upon the utility regulatory agencies of the six New England States.

Comment Date: January 24, 2003.

7. American Ref-Fuel Company of Essex County

[Docket No. ER03-170-001]

Take notice that on January 2, 2003, American Ref-Fuel Company of Essex County tendered for filing under Section 205 of the Federal Power Act a substitute tariff sheet in compliance with the delegated letter order issued on December 26, 2002 in the above-captioned docket.

Comment Date: January 23, 2003.

8. Geysers Power Company, L.L.C.

[Docket No. ER03-184-001]

Take notice that on December 31, 2002, Geysers Power Company, LLC, (Geysers Power) tendered for filing substitute rate schedule sheets to the November 14, 2002, filing in this docket setting forth revisions to the Geysers Main Reliability Must-Run Agreement between Geysers Power and the California Independent System Operator Corporation for calendar year 2003.

Comment Date: January 21, 2003.

9. PJM Interconnection, L.L.C.

[Docket No. ER03-331-001]

Take notice that on January 3, 2003, PJM Interconnection, L.L.C. (PJM), amended its December 24, 2002 filing in this docket. In its December 24, 2002 filing, PJM submitted amendments to the Appendix to Attachment K of the PJM Open Access Transmission Tariff and Schedule 1 of the Amended and Restated Operating Agreement (Operating Agreement) to modify the provisions relating to the determination of eligibility to receive Operating Reserves credits during Maximum Generation Emergency conditions. The revised Operating Agreement pages, however, inadvertently were omitted from the filing. Therefore, PJM hereby amends its December 24, 2002 filing to include the revised pages of Schedule 1 of the Operating Agreement that inadvertently were omitted from its December 24, 2002 filing.

Copies of this filing were served upon all PJM members and each state electric utility regulatory commission in the PJM region.

Comment Date: January 24, 2003.

10. Duke Energy Corporation

[Docket No. ER03-359-000]

Take notice that on December 31, 2002, Duke Energy Corporation, on behalf of Duke Power, (collectively, Duke), tendered for filing: (1) Proposed revisions to Duke's Rate Schedule No. 10-A; and (2) Amendment No. 1 to the Settlement Agreement between Duke and the City of Concord, North Carolina; the Town of Dallas, North Carolina; the Public Works Commission of the Town of Due West, South Carolina; the Town of Forest City, North Carolina; the City of Kings Mountain, North Carolina; the Town of Prosperity, South Carolina; Lockhart Power Company; and Clemson University. Duke requests an effective date for the proposed revisions to Rate Schedule No. 10-A of January 1, 2003.

Comment Date: January 21, 2003.

11. PJM Interconnection, L.L.C.

[Docket No. ER03-360-000]

Take notice that on December 31, 2002, PJM Interconnection, L.L.C. (PJM), filed a revision to Schedule 9 of the PJM Open Access Transmission Tariff (PJM Tariff), to correct an error in a recently approved change to Schedule 9 that will take effect on January 1, 2003.

PJM states that copies of this filing were served upon all PJM members and each state electric utility regulatory commission in the PJM region. PJM also proposes an effective date of January 1, 2003 for the revision.

Comment Date: January 21, 2003.

12. New England Power Pool

[Docket No. ER03-361-000]

Take notice that on December 31, 2002, the New England Power Pool (NEPOOL) Participants Committee filed for acceptance materials to: (1) Permit NEPOOL to expand its membership to include AIG Energy Trading Inc. (AIGET) and Industrial Power Services Corp. (IPSC); and (2) to terminate the memberships of Public Service Company of Colorado (PSCC), Town of Wiscasset (Wiscasset), and Exeter & Hampton Electric Company (Exeter). The Participants Committee requests the following effective dates: December 1, 2002 for the termination of PSCC; December 2, 2002 for the termination of Exeter; January 1, 2003 for the commencement of participation in NEPOOL by AIGET and the termination of Wiscasset; and March 1, 2003 for commencement of participation in NEPOOL by IPSC.

The Participants Committee states that copies of these materials were sent to the New England state governors and regulatory commissions and the Participants in NEPOOL.

Comment Date: January 21, 2003.

13. Midwest Independent Transmission System Operator, Inc.

American Transmission Company LLC

[Docket No. ER03-362-000]

Take notice that on December 31, 2002, the Midwest Independent Transmission System Operator, Inc., (Midwest ISO) tendered for filing proposed changes to its Open Access Transmission Tariff, FERC Electric Tariff, Second Revised Volume No. 1, to revise its formula rate to reflect changes to certain rate calculations applicable to the American Transmission Company LLC (ATCLLC) rate zone (Zone 1). The revised tariff sheets contain proposed revisions to ATCLLC's formula rate true-up mechanism to implement a one-time change to the calculation of the rate true-up to offset a revenue shortfall year 2001 with the estimated over-collection of costs in year 2002. The revised tariff sheets also contain a revised formula for the collection of ATCLLC's start-up costs, which calculates ATCLLC's start-up cost adder on a straight-line basis.

Both of the proposed changes reduce the amounts collected from transmission customers. The Midwest ISO requests waiver of the Commission's notice requirements to allow the proposed changes to be made effective on January 1, 2003.

The Midwest ISO seeks waiver of the Commission's regulations, 18 CFR 385.2010 with respect to service on all required parties. The Midwest ISO has posted this filing on its Internet site at www.midwestiso.org, and the Midwest ISO or ATCLLC will provide hard copies to any interested parties upon request.

Comment Date: January 21, 2003.

14. Entergy Services, Inc.

[Docket No. ER03-363-000]

Take notice that on December 31, 2002, Entergy Services, Inc., on behalf of Entergy Arkansas, Inc., Entergy Gulf States, Inc., Entergy Louisiana, Inc., Entergy Mississippi, Inc., and Entergy New Orleans, Inc., (collectively, the Entergy Operating Companies) tendered for filing a Long-Term Firm Point-To-Point Transmission Service Agreement between Entergy Services, Inc., as agent for the Entergy Operating Companies, and City Water and Light of The City of Jonesboro, Arkansas.

Comment Date: January 23, 2003.

15. Alliant Energy Corporate Services, Inc.

[Docket No. ER03-364-000]

Take notice that on December 31, 2002, Alliant Energy Corporate Services, Inc. (Alliant Energy Corporate Services) tendered for filing an unexecuted First Amendment to the Interconnection and Transmission Service Agreement between Iowa Southern Utilities Company, an Alliant Energy-IPL predecessor, and Northeast Missouri Electric Power Cooperative.

Alliant Energy Corporate Services requests an effective date of March 1, 2003, for the filed Amendment. Alliant Energy Corporate Services accordingly seeks waiver of the Commission's notice requirements. Alliant Energy Corporate Services states that a copy of this filing has been served upon the Public Service Commission of Wisconsin, the Iowa Utilities Board, the Illinois Commerce Commission and the Minnesota Public Utilities Commission.

Comment Date: January 23, 2003.

16. California Independent System Operator Corporation

[Docket No. ER03-365-000]

Take notice that on December 31, 2002, the California Independent System Operator Corporation (ISO) submitted for Commission filing and acceptance the Utility Distribution Company Operating Agreement (UDC Operating Agreement) between the ISO and the City of Banning, California. The ISO requests that the UDC Operating Agreement be made effective as of January 1, 2003. The ISO requests privileged treatment, pursuant to 18 CFR 388.112, with regard to portions of the filing.

The ISO states that it has served copies of this filing upon the City of Banning, California, and the Public Utilities Commission of the State of California.

Comment Date: January 23, 2003.

17. Midwest Independent Transmission System Operator, Inc.

[Docket No. ER03-366-000]

Take notice that on December 31, 2002, the Midwest Independent Transmission System Operator, Inc. (Midwest ISO) tendered for filing proposed revisions to the Midwest ISO Open Access Transmission Tariff, FERC Electric Tariff, Second Revised Volume No. 1, which revisions are intended to comply with Commission's July 5, 2002 Order requesting the Midwest ISO incorporate its Joint Open Access Transmission Tariff (JOATT) into its Midwest ISO Open Access Transmission Tariff (OATT). Applicant requests an effective date of January 1, 2003.

The Midwest ISO has requested waiver of the requirements set forth in 18 CFR 385.2010. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter.

Comment Date: January 23, 2003.

18. Soyland Power Cooperative, Inc.

[Docket No. ER03-367-000]

Take notice that on December 31, 2002, Soyland Power Cooperative, Inc. (Soyland) tendered for filing with the Federal Energy Regulatory Commission (the Commission) an Agreement Regarding Use of Soyland Owned Lines and Substation Assets (Facilities Use Agreement) between Soyland and M.J.M. Electric Cooperative, Inc. (MJM).

Soyland requests that the Commission grant all waivers necessary to allow the agreement to become effective on January 1, 2003. Soyland states that a copy of the filing has been served on MJM.

Comment Date: January 23, 2003.

19. Midwest Independent Transmission System Operator, Inc.

[Docket No. ER03-368-000]

Take notice that on December 31, 2002, Midwest Independent System Operator, Inc. (Midwest ISO) submitted for filing a Notice of Cancellation pursuant to 18 CFR 35.15 to reflect the cancellation of its Joint Open Access Transmission Tariff, FERC Electric Tariff, Original Volume No. 2, with a proposed effective date of January 1, 2003.

The Midwest ISO has requested waiver of the requirements set forth in 18 CFR 385.2010. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter.

Comment Date: January 23, 2003.

20. Duke Energy Corporation

[Docket No. ER03-369-000]

Take notice that on December 12, 2002, Duke Energy Corporation, on behalf of Duke Electric Transmission, (collectively, Duke) tendered for filing a Notice of Cancellation of an Interconnection and Operating Agreement by and between Duke Electric Transmission and GenPower Anderson, LLC, Second Revised Rate Schedule No. 277 under FERC Electric Tariff No. 4. Duke requests and effective date for the cancellation of November 6, 2002.

Comment Date: January 17, 2003.

21. Entergy Services, Inc.

[Docket No. ER03-370-000]

Take notice that on January 2, 2003, Entergy Services, Inc., on behalf of Entergy Mississippi, Inc. (Entergy Mississippi), tendered for filing the Agreement for Establishment of the Silver Creek Generating Facility as an Off-System Delivery Point (Agreement) between Entergy Mississippi and South Mississippi Electric Power Association. The Agreement modifies Exhibit A of Rate Schedule No. 251.

Comment Date: January 23, 2003.

22. Concord Electric Company Exeter & Hampton Electric Company

[Docket No. ER03-371-000]

Take notice that on January 2, 2003, Concord Electric Company (CECo) and Exeter & Hampton Electric Company (E&H), filed a Notice of Cancellation with the Federal Energy Regulatory Commission pursuant to Sections 35.15 and 131.53 of the Commission's Rules and Regulations, 18 CFR 35.15 and 131.53. CECo and E&H seek to cancel their Open Access Transmission Tariffs, designated, respectively as FERC Electric Tariff, Original Volume No. 2 and FERC Electric Tariff, Original Volume No. 1. CECo and E&H request that the cancellation be made effective as of December 2, 2002.

Comment Date: January 23, 2003.

23. Peak Power Generating Company, Inc.

[Docket No. ER03-372-000]

Take notice that on January 2, 2003, Peak Power Generating Company, Inc. (Peak Power) tendered for filing a Notice of Succession pursuant to Section 35.16 of the Commission's Regulations. As a result of a name change, Peak Power is succeeding to the tariffs and related service agreements of RAMCO, Inc., effective December 17, 2002.

Comment Date: January 23, 2003.

24. WPS Resources Operating Companies

[Docket No. ER03-373-000]

Take notice that on January 2, 2003, Wisconsin Public Service Corporation and Upper Peninsula Power Company (together WPS Resources) tendered for filing a Joint Ancillary Services Tariff, FERC Electric Tariff, Original Volume No. 2 (JAST). WPS Resources states that the JAST will ultimately replace its Open Access Transmission Tariff (OATT). WPS Resources no longer provides transmission service because it has transferred ownership of its transmission facilities to the American Transmission Company LLC, which has transferred operational control of those facilities to the Midwest Independent System Operator. WPS Resources states that it will eventually cancel its OATT after the Commission accepts the JAST for filing and all applicable service agreements under its OATT have been replaced by service agreements under the JAST.

WPS Resources respectfully requests that the JAST become effective on March 3, 2003. WPS Resources also states that copies of the filing were served upon all customers under the WPS Resources Operating Companies OATT, the Public Service Commission of Wisconsin and the Michigan Public Service Commission.

Comment Date: January 23, 2003.

25. Unitil Energy Systems, Inc.

[Docket No. ER03-374-000]

Take notice that on January 2, 2003, Unitil Energy Systems, Inc. (UES), filed a Notice of Succession with the Federal Energy Regulatory Commission pursuant to Sections 35.16 and 131.51 of the Commission's Rules and Regulations, 18 CFR 35.16 and 131.51. UES adopted and ratified all applicable rate schedules filed with the Federal Energy Regulatory Commission by Concord Electric Company and Exeter & Hampton Electric Company. UES also resubmitted its rate schedules to conform them to the formatting requirements of Order No. 614. UES requested that the revised rate schedules be made effective as of December 2, 2002.

Comment Date: January 23, 2003.

26. Warrensburg Hydro Power Limited Partnership Sissonville Limited Partnership NYSD Limited Partnership

[Docket No. ER03-375-000]

Take notice that Warrensburg Hydro Power Limited Partnership, Sissonville Limited Partnership, and NYSD Limited Partnership tendered for filing on January 2, 2003, the following agreements:

Warrensburg Hydro Power Limited (Warrensburg): Letter Agreement to Amend PSA No. 1298, dated October 25, 2002, (signed by Warrensburg on October 29, 2002; signed by NMPC on December 3, 2002), to extend the termination date to December 31, 2003;

Sissonville Limited Partnership (Sissonville): Letter Agreement to Amend PSA No. 1299, dated October 25, 2002, (signed by Sissonville on October 29, 2002; signed by NMPC on December 3, 2002), to extend the termination date to December 31, 2003; and

NYSD Limited Partnership (NYSD): Letter Agreement to Amend PSA No. 1300, dated October 25, 2002, (signed by NYSD on October 29, 2002; signed by NMPC on December 3, 2002), to extend the termination date to December 31, 2003.

Copies of the filings were provided to Niagara Mohawk Power Corporation and New York Public Service Commission. Warrensburg, Sissonville and NYSD have requested that further notice requirement be waived and the executed agreements be allowed to become effective November 1, 2002.

Comment Date: January 23, 2003.

27. NorthWestern Energy

[Docket No. ER03-376-000]

Take notice that on January 3, 2003, NorthWestern Energy, a division of NorthWestern Corporation (NorthWestern Energy), filed with the Federal Energy Regulatory Commission a Notice of Succession pursuant to Section 35.16 of the Commission's regulations, 18 CFR 35.16, and revised tariff sheets to NorthWestern Energy's FERC Electric Tariff, to reflect that, as a result of a name change, NorthWestern Energy is succeeding to the FERC Electric Tariff of Northwestern Public Service Company, effective January 3, 2003.

Comment Date: January 24, 2003.

28. Florida Power Corporation

[Docket No. ER03-377-000]

Take notice that Florida Power Corporation (FPC), on January 3, 2003, tendered for filing a revision to its Cost-Based Wholesale Power Sales Tariff, FERC Electric Tariff, First Revised Volume No. 9 (CR-1 Tariff). The CR-1 Tariff is revised to eliminate a provision referencing FPC's fuel adjustment clause. FPC requests that the revision become effective on April 22, 1998.

FPC states that copies of the filing were served upon the Florida Public Service Commission and those customers taking service from FPC under the CR-1 Tariff.

Comment Date: January 24, 2003.

29. Midwest Independent Transmission System Operator, Inc., et al.

[Docket No. ER03-378-000]

Take notice that on January 3, 2003, Midwest Independent Transmission System Operator, Inc. (Midwest ISO) tendered for filing an Interconnection and Operating Agreement entered into by the Midwest ISO, Interstate Power and Light Company (a wholly owned subsidiary of Alliant Energy Corporation), and FPL Energy Hancock County Wind, LLC.

Comment Date: January 24, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-702 Filed 1-13-03; 8:45 am]

BILLING CODE 6717-01-P